DEPARTMENT OF HOMELAND SECURITY

Coast Guard

33 CFR Part 117

[Docket No. USCG-2017-0273]

Drawbridge Operation Regulation; Atlantic Intracoastal Waterway, Palm Beach, FL

AGENCY: Coast Guard, DHS.

ACTION: Notice of deviation from drawbridge regulation with request for comments.

SUMMARY: The Coast Guard has issued a temporary deviation from the operating schedule that governs the operation of the Flagler Memorial (SR A1A), Royal Park (SR 704), and the Southern Boulevard (SR 700/80) bridges, across the Atlantic Intracoastal Waterway (AICW), miles 1020.8, 1022.6 and 1024.7 at Palm Beach, Florida. This deviation will test for 180 days a change to the drawbridge operation schedules to determine whether a permanent change to the schedules is needed. This deviation is necessary to reduce traffic congestion and ensure the safety of the roadways, while meeting the needs of waterways users, whenever the President of the United States, members of the First Family, or other persons under the protection of the Secret Service are present or expected to be visiting Mar-a-Lago. This deviation allows the Flagler Memorial and Royal Park bridges to open once an hour during a 4 hour period on weekdays when the President is staying at Mar-a-Lago, and the Southern Boulevard Bridge to remain closed to navigation when the presidential motorcade is in transit.

DATES: This deviation is effective from September 1, 2017, until February 27, 2018.

Comments and related material must reach the Coast Guard on or before October 16, 2017.

ADDRESSES: You may submit comments identified by docket number USCG-2017-0273 using Federal eRulemaking Portal at http://www.regulations.gov.

See the “Public Participation and Request for Comments” portion of the SUPPLEMENTARY INFORMATION section below for instructions on submitting comments.

FOR FURTHER INFORMATION CONTACT: If you have questions on this temporary deviation, call or email Mr. Eddie Lawrence with the Seventh Coast Guard District Bridge Office; telephone 305-415-6946, email Eddie.H.Lawrence@uscg.mil.

SUPPLEMENTARY INFORMATION:

I. Background, Purpose and Legal Basis

When the President of the United States, members of the First Family, or other persons under the protection of the Secret Service are present or expected to be present at Mar-a-Lago, traffic backups have been caused by drawbridge openings in the Palm Beach area. The increase in traffic occurs due to the closure of Southern Boulevard when the President is visiting Mar-a-Lago. This requires through traffic to use the Flagler Memorial and Royal Park Bridges to cross the Atlantic Intracoastal Waterway (AICW). Due to the increased traffic using the Flagler Memorial and Royal Park bridges when the President is in town, the Mayor of Palm Beach has asked the Coast Guard and the bridge owner, Florida Department of Transportation, to test a change to the operating regulations of those bridges.

During this temporary deviation, the Flagler Memorial and Royal Park Bridges will only be required to open once an hour, on the quarter and half hour, respectively, starting at 2:15 p.m. through 5:30 p.m. during the weekdays only. The Flagler memorial Bridge will open at 2:15 p.m., 3:15 p.m., 4:15 p.m. and 5:15 p.m., weekdays, if vessels are requesting an opening. The Royal Park (Middle) Bridge will open at 2:30 p.m., 3:30 p.m., 4:30 p.m. and 5:30 p.m., weekdays, if vessels are requesting an opening.

The operating schedule of the Southern Boulevard Bridge, which is closest to Mar-a-Lago and also crosses the AICW, will not be affected during the aforementioned times. However it will be allowed to remain closed whenever the presidential motorcade is in transit. At all other times all three bridges will operate per their normal schedules. The current operating regulation is under 33 CFR 117.261 at paragraphs (u), (v), and (w), respectively.

This general deviation will have an impact on marine traffic while alleviating some vehicle traffic backups. Tugs with tows are not exempt from this regulation.

The Coast Guard will inform waterway users of the schedule changes through our Local and Broadcast Notices to Mariners, so that vessel operators can arrange their transits to minimize any impact caused by the temporary deviation. Mariners should also listen to local news organizations to determine when the President, members of the First Family, or other persons under the protection of the Secret Service are visiting Mar-a-Largo.

In accordance with 33 CFR 117.35(e), the drawbridge must return to its regular operating schedule immediately at the end of the effective period of this temporary deviation. This deviation from the operating regulations is authorized under 33 CFR 117.35. The Coast Guard will continue to evaluate the impact to mariners navigating this area during the closure periods and is requesting comments be submitted during the first 60 days of this deviation.

Vessels able to pass through the bridge in the closed position may do so at anytime. The bridge will be able to open for emergencies.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086). Documents mentioned in this notice, and all public comments, are in our online docket at http://www.regulations.gov and can be viewed by following that Web site's instructions. Additionally, if you go to the online docket and sign up for email alerts, you will be notified when comments are posted or a final rule is published.

Barry Dragon,
Director, Bridge Branch, Seventh Coast Guard District.

[FR Doc. 2017-17387 Filed 8-16-17; 8:45 am]

BILLING CODE 9110-04-P